DEPARTMENT OF ENERGY

Federal Energy Regulatory Commission

Notice of Intent To File Application for a New License

August 2, 2000.

Take notice that the following notice of intent has been filed with the Commission and is available for public inspection:

a. Type of filing: Notice of Intent to File an Application for New License.

b. Project No: 1971.

c. Date filed: July 18, 2000.

d. Submitted by: Idaho Power Company.

e. Name of Project: Hells Canyon Project.

f. Location: On the Snake River near the Idaho-Oregon border.

g. Filed Pursuant to: Section 15 of the Federal Power Act, 18 CFR 16.6.

h. Pursuant to Section 16.19 of the Commission's regulations, the licensee is required to make available the information described in Section 16.7 of the regulations. Such information is available from the licensee at Idaho Power Company, 1221 West Idaho Street, P.O. Box 70, Boise, Idaho 83702. Contact Robert Stahman on 208-388-2676.

i. FERC Contact: Vincent H. Jones, (202) 219-2710, vincent.jones@ferc.fed.us

j. Expiration Date of Current License: July 31, 2005.

k. The Hells Canyon Project consist of three water power developments (Brownlee, Oxbow, and Hells Canyon Dam) located on the Snake River near the Idaho-Oregon border. The Brownlee Reservoir extends from Brownlee Dam upstream approximately 58 miles on the Snake River, with a surface area estimated at 14,621 acres at elevation 2,077.0. The Oxbow Development is the middle development of the three dam Hells Canyon Project. It is located 12.4 miles downstream of Brownlee Dam and 25.2 rivers miles upstream of Hells Canyon Dam, with a surface area estimated at 1,150 acres at elevation 1,805.0. The Hells Canyon Project is the lowermost development of the three dam project. It is located 25.2 miles downstream of Oxbow Dam and 37.6 river miles downstream of Brownlee Dam, with a surface area estimated at 2,412 acres at elevation 1,688.0.

1. The licensee states its unequivocal intent to submit an application for a new license for Project No. 1971, Pursuant to 18 CFR 16.9(b)(1) each application for a new license and any competing license applications must be filed with the Commission at least 24 months prior to the expiration of the existing license. All applications for license for this project must be filed by July 31, 2003.

A copy of the notice of intent is available for inspection and reproduction at the Commission's Public Reference Room, located at 888 First Street, NE, Room 2A, Washington, D.C. 20426, or by calling (202) 208-1371. The notice may be viewed on http://www.ferc.fed.us/online/rims.htm (call (202) 208-2222 for assistance). A copy is also available for inspection and reproduction at the address in item h above.

David P. Boergers,
Secretary.

[FR Doc. 00-19972 Filed 8-7-00; 8:45 am]

BILLING CODE 6717-01-M